DEPARTMENT OF COMMERCE

National Oceanic and Atmospheric Administration

RIN 0648-XH038

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, June 11, 2019 through Thursday, June 13, 2019, beginning at 9 a.m. on June 11 and 8:30 a.m. on June 12 and 13.

ADDRESSES: The meeting will be held at the DoubleTree by Hilton, 363 Maine Mall Road, So. Portland, ME 04106; telephone: (207) 775-6161; online at https://doubletree3.hilton.com/en/hotels/maine/doubletree-by-hilton-hotel-portland-me-PWMMMDT/index.html?WT.mc_id=zDA01MB 2OLG34YX.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, June 11, 2019

After introductions and brief announcements, the meeting will begin with reports from the Council Chairman and Executive Director, NMFS's Regional Administrator for the Greater Atlantic Regional Fisheries Office (GARFO), liaisons from the Northeast Fisheries Science Center (NEFSC) and Mid-Atlantic Fishery Management Council (MAFMC), representatives from NOAA General Counsel and NOAA's Office of Law Enforcement, and staff from the Atlantic States Marine Fisheries Commission (ASMFC) and the U.S. Coast Guard. The Habitat Committee then will cover three issues: (1) Research planning efforts for the Great South Channel Habitat Management Area; (2) a report from the Habitat Plan Development Team (PDT) on a Fishing Effects Model; and (3) offshore energy developments. Next, members of the public will have the opportunity to speak during an open comment period on issues that relate to Council business but are not included on the published agenda for this meeting. The Council asks the public to limit remarks to 3-5 minutes.

After the lunch break, the Council will review alternatives and take final action on Framework Adjustment 6 to the Atlantic Herring Fishery Management Plan (FMP), which contains 2019-21 specifications for the fishery and proposes a new overfishing definition. The Scallop Committee will report next on three items. First, the Council will approve 2020-21 priorities for the Scallop Research Set-Aside Program. Second, the Council will initiate Framework Adjustment 32 to the Atlantic Sea Scallop FMP, which contains specifications for the 2020 fishing year, 2021 default specifications, and other measures. Third, the Council will review scoping comments for Amendment 21 to the Scallop FMP, which is being developed to address Northern Gulf of Maine Management Area issues, limited access general category (LAGC) possession limits, and LAGC individual fishing quota (IFQ) transfers. The Council will review goals and objectives for Amendment 21 at this meeting. Then, the Council will discuss the recent Research Set-Aside Program Review and receive input from both the Scallop and Herring Committees on the review panel's findings and recommendations. After that, the Council will adjourn for the day.

Wednesday, June 12, 2019

The Council will begin its morning session with a presentation from the Northeast Fisheries Science Center's Fishery Management and Research Division. The presentation will cover: (1) The division's role and responsibilities; (2) cooperative research activities; and (3) observer program updates. The Council then will receive a presentation from its Whiting PDT on causes and sources of high groundfish bycatch in the small-mesh multispecies (whiting) fishery based on an analysis of sea sampling data. Next, the Council will receive a report from a sub-panel of the Scientific and Statistical Committee (SSC) that was charged with reviewing the scientific validity of information and analyses for Amendment 23 to the Northeast Multispecies (Groundfish) FMP, which is being developed to improve groundfish monitoring. This discussion will flow into the Groundfish Committee Report. Here, the Council is scheduled to approve the range of alternatives for further analysis in Amendment 23. The Council also will initiate Framework Adjustment 59 to the Groundfish FMP, which includes: (1) 2020 total allowable catches for U.S./Canada stocks of Eastern Georges Bank cod, Eastern Georges Bank haddock, and Georges Bank yellowtail flounder; (2) 2020-22 specifications for all stocks; and (3) other measures as needed.

Following the lunch break, the Council will continue its groundfish discussion until all related business is concluded. Next, the Council will receive an update on potential strategies for addressing recreational fishing issues more effectively. This discussion will be followed by a GARFO briefing on the “Modernizing Recreational Fisheries Management Act of 2018,” better known as the “Modern Fish Act.” The Council then will receive a presentation on new and revised electronic vessel reporting requirements for charter/headboat (for-hire) vessels with South Atlantic permits. NMFS Highly Migratory Species (HMS) issues will wrap up the afternoon. First, the Council will receive a presentation on a series of scoping meetings and public hearings being conducted by the HMS Division on four proposed management actions, which cover a number of bluefin tuna, shark, gear, quota system, and research issues. Next, the Council will receive a report on the HMS Advisory Panel's May 21-23, 2019 meeting, which will include input on the proposed NMFS HMS actions. Under this agenda item, the Council also will discuss bigeye tuna and yellowfin tuna management under the International Commission for the Conservation of Atlantic Tunas (ICCAT) before adjourning for the day.

Thursday, June 13, 2019

The third day of the meeting will begin with a progress report from the Ecosystem-Based Fishery Management (EBFM) Committee, which is developing an example Fishery Ecosystem Plan (eFEP) for Georges Bank. The Committee will provide updates on several components of the eFEP, including ones related to data and monitoring, incentive-based measures, and draft ecosystem forage fish management strategies. The report also will include a short overview of initial planning efforts for a Management Strategy Evaluation (MSE) related to ecosystem-based fishery management. The Monkfish Committee then will present two actions asking the Council to: (1) Initiate Framework Adjustment 12 to the Monkfish FMP, which includes 2020-22 specifications and any other needed measures; and (2) approve 2020-21 priorities for the Monkfish Research Set-Aside Program. Next, the Council will discuss the Mid-Atlantic Fishery Management Council's Commercial Electronic Vessel Trip Reporting (eVTR) Omnibus Framework Action, which proposes to implement electronic VTRs for all vessels with commercial permits for species managed by the Mid-Atlantic Council. The New England Council's discussion will focus on two jointly managed species between the Councils, those being monkfish and spiny dogfish. The New England Council then will determine a path forward regarding commercial eVTRs in its own fisheries, including monkfish and dogfish, given the Mid-Atlantic Council's evolving action. Afterwards, GARFO will provide a presentation on the results of the Atlantic Large Whale Take Reduction Team's April 23-26, 2019 meeting and discuss next steps for rulemaking.

Following the lunch break, the Council will take up the Skate Committee Report. The Council will initiate Framework Adjustment 8 to the Northeast Skate Complex FMP, which includes 2020-21 specifications and other measures if needed. Second, the Council will discuss Amendment 5 to the Skate FMP, which proposes to establish a limited access program for the skate wing and/or skate bait fisheries. Next, the Council will receive a presentation on the joint Northeast Fisheries Science Center and GARFO Regional Strategic Plan for 2020-23, which highlights collective priorities. Finally, the Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: May 17, 2019.
Rey Israel Marquez,
Acting Deputy Director, Office of Sustainable Fisheries, National Marine Fisheries Service.

[FR Doc. 2019-10714 Filed 5-21-19; 8:45 am]

BILLING CODE 3510-22-P